EQUAL EMPLOYMENT OPPORTUNITY COMMISSION

29 CFR Parts 1610 and 1612

Updates to Telephone and Facsimile Numbers

AGENCY: Equal Employment Opportunity Commission.

ACTION: Technical amendments.

SUMMARY: This document amends the Equal Employment Opportunity Commission's regulations by updating a telephone number and a facsimile number.

DATES: Effective March 16, 2022.

FOR FURTHER INFORMATION CONTACT: Kathleen Oram, Assistant Legal Counsel, at (202) 921-2665 or kathleen.oram@eeoc.gov, or Erin Norris, Senior Staff Attorney, at (980) 296-1286 or erin.norris@eeoc.gov, Office of Legal Counsel, U.S. Equal Employment Opportunity Commission. Requests for this document in an alternative format should be made to the EEOC's Office of Communications and Legislative Affairs at (202) 921-3191 (voice), 1-800-669-6820 (TTY), or 1-844-234-5122 (ASL video phone).

SUPPLEMENTARY INFORMATION: The Equal Employment Opportunity Commission (EEOC or Commission) recently upgraded some of its communication systems and certain telephone and facsimile numbers in use by the agency were changed. As a result, the EEOC's regulations require updating to correct a telephone number and a facsimile number. The telephone number, which is available for use by the public to access information about agency meetings, appears in the EEOC's regulations covering the Government in the Sunshine Act at 29 CFR 1612.7(a). The facsimile number appears in the EEOC's regulations on the Freedom of Information Act (FOIA) at 29 CFR 1610.7(b) and 1610.11(a); this number is one method by which requests or appeals under the FOIA may be submitted to the EEOC Office of Legal Counsel.

List of Subjects in 29 CFR Parts 1610 and 1612

Freedom of information, Government in the Sunshine Act, Equal employment opportunity.

Accordingly, the Equal Employment Opportunity Commission amends 29 CFR parts 1610 and 1612 as follows:

PART 1610—AVAILABILITY OF RECORDS

1. The authority citation for part 1610 continues to read as follows:

Authority: 42 U.S.C. 2000e-12(a), 5 U.S.C. 552 as amended by Pub. L. 93-502, Pub. L. 99-570, and Pub. L. 105-231; for § 1610.15, non-search or copy portions are issued under 31 U.S.C. 9701.

§ 1610.7 [Amended]

2. In § 1610.7 amend paragraph (b) by removing the number “(202) 653-6034” and adding in its place the number “(202) 827-7545”.

§ 1610.11 [Amended]

3. In § 1610.11 amend paragraph (a) by removing the number “(202) 653-6034” and adding in its place the number “(202) 827-7545”.

PART 1612—GOVERNMENT IN THE SUNSHINE ACT REGULATIONS

4. The authority citation for part 1612 continues to read as follows:

Authority: 5 U.S.C. 552b, sec. 713, 78 Stat. 265; 42 U.S.C. 2000e-12.

§ 1612.7 [Amended]

5. In § 1612.7 amend paragraph (a) introductory text by removing the number “202-663-7100” and adding in its place the number “(202) 921-2750”.

Charlotte A. Burrows,
Chair.

[FR Doc. 2022-05502 Filed 3-15-22; 8:45 am]

BILLING CODE 6570-01-P